EXPORT-IMPORT BANK OF THE UNITED STATES

[Public Notice EIB-2015-0009]

Application for Final Commitment for a Long-Term Loan or Financial Guarantee in Excess of $100 Million: AP088934XX

AGENCY: Export-Import Bank of the United States.

ACTION: Notice.

SUMMARY: This Notice is to inform the public, in accordance with Section 3(c)(10) of the Charter of the Export-Import Bank of the United States (“Ex-Im Bank”), that Ex-Im Bank has received an application for final commitment for a long-term loan or financial guarantee in excess of $100 million (as calculated in accordance with Section 3(c)(10) of the Charter). Comments received within the comment period specified below will be presented to the Ex-Im Bank Board of Directors prior to final action on this Transaction. Comments received will be made available to the public.

DATES: Comments must be received on or before May 23, 2015 to be assured of consideration before final consideration of the transaction by the Board of Directors of Ex-Im Bank.

ADDRESSES: Comments may be submitted through Regulations.gov at WWW.REGULATIONS.GOV. To submit a comment, enter EIB-2015-0009 under the heading “Enter Keyword or ID” and select Search. Follow the instructions provided at the Submit a Comment screen. Please include your name, company name (if any) and EIB-2015-0009 on any attached document.

Reference: AP088934XX.

Purpose And Use: Brief description of the purpose of the transaction:

To support the export of U.S.-manufactured commercial aircraft to the United Arab Emirates.

Brief non-proprietary description of the anticipated use of the items being exported:

To be used for passenger air service between the United Arab Emirates and other countries.

To the extent that Ex-Im Bank is reasonably aware, the items being exported may be used to produce exports or provide services in competition with the exportation of goods or provision of services by a United States industry.

Parties:

Principal Suppliers: The Boeing Company.

Obligor: Emirates Airline.

Guarantor(s): N/A.

Description of Items Being Exported:

Boeing 777 aircraft.

Information on Decision: Information on the final decision for this transaction will be available in the “Summary Minutes of Meetings of Board of Directors” on http://exim.gov/newsandevents/boardmeetings/board/.

Confidential Information: Please note that this notice does not include confidential or proprietary business information; information which, if disclosed, would violate the Trade Secrets Act; or information which would jeopardize jobs in the United States by supplying information that competitors could use to compete with companies in the United States.

Bonita Jones,
Program Analyst, Records Management.

[FR Doc. 2015-10250 Filed 5-1-15; 8:45 am]

BILLING CODE 6690-01-P